DEPARTMENT OF TRANSPORTATION

ITS Joint Program Office; IntelliDrive℠ Safety Workshop; Notice of Workshop

AGENCY: Research and Innovative Technology Administration, U.S. Department of Transportation.

ACTION: Notice.

The ITS Joint Program Office will hold a three-day workshop to present and discuss IntelliDrive℠ safety technical and policy research roadmaps. The workshop will be held on July 20-22, 2010, at the Hilton Chicago Northbrook, 2855 North Milwaukee Avenue, Northbrook, Illinois 60062.

The first day of the workshop will provide a detailed discussion of the technical research activities within the major IntelliDrive safety program initiatives. Days two and three will focus on the policy issues as well as policy vs. technical trade-offs with a focus on the Vehicle to Vehicle (V2V) environment. This workshop is for all parties interested in IntelliDrive safety-related activities. There will be a free webinar available for the July 20 presentations only.

Following is the preliminary workshop agenda: Day one; IntelliDrive Safety Program Roadmaps and discussion (V2V, Safety Pilot, DSRC Device Certification, Vehicle to Infrastructure Safety, and Human Factors for IntelliDrive). Day two; IntelliDrive Policy Roadmaps with a focus on reaching the V2V 2013 regulatory decision milestone. Day three; Continuation of policy discussion and break-out sessions on key V2V policy tropics.

Additional information, including registration details may be found at the ITS JPO Web site: http://www.its.dot.gov/press/2010/intellidrive_safety_workshop.htm.

Issued in Washington, DC, on the 8th day of June 2010.
John Augustine,
Managing Director, ITS Joint Program Office.

[FR Doc. 2010-14162 Filed 6-11-10; 8:45 am]

BILLING CODE 4910-HY-P